DEPARTMENT OF LABOR

Employment and Training Administration

[TA-W-62,661]

Agilent Technologies Measurement Systems Division, Loveland, CO; Notice of Affirmative Determination Regarding Application for Reconsideration

By application dated April 11, 2008, a petitioner requested administrative reconsideration of the negative determination regarding workers' eligibility to apply for Trade Adjustment Assistance (TAA) and Alternative Trade Adjustment Assistance (ATAA) applicable to workers and former workers of the subject firm. The determination was issued on March 13, 2008. The Notice of determination was published in the Federal Register on March 26, 2008 (73 FR 16064).

The determination was based on the Department's findings that workers separations at the subject firm were due to a shift in production of automated X-ray inspection system prototypes (including software code and hardware design functions) to Malaysia, a country that is not a party to a free trade agreement nor a beneficiary country with the United States. The subject firm did not import automated X-ray inspection system prototypes following the shift in production to a foreign source.

The request for reconsideration alleges that Agilent Technologies might be in fact an importer of X-ray inspection systems and software. The petitioner also alleges that the customers of the subject firm also import X-ray inspection systems and software purchased directly from a production facility of Agilent Technologies in Malaysia.

The Department has carefully reviewed the request for reconsideration and will further investigate whether imports of like or directly competitive products contributed importantly to workers separations at the subject firm.

Conclusion

After careful review of the application, I conclude that the claim is of sufficient weight to justify reconsideration of the U.S. Department of Labor's prior decision. The application is, therefore, granted.

Signed at Washington, DC, this 17th day of April 2008.
Elliott S. Kushner,
Certifying Officer, Division of Trade Adjustment Assistance.

[FR Doc. E8-9103 Filed 4-24-08; 8:45 am]

BILLING CODE 4510-FN-P